DEPARTMENT OF ENERGY

Federal Energy Regulatory Commission

Notice of Change in Date for Public Meeting on Wholesale Power Markets and Transmission Services in California

September 5, 2000.

The Commission is changing the date for the public meeting it is convening in San Diego. The public meeting will now be held on September 12, 2000. As explained in the Commission's September 1, 2000 notice, the public meeting in San Diego, California will allow interested persons to give the Commission their views on recent events in California's wholesale markets. The meeting is scheduled to begin at 9 a.m., at the San Diego Concourse, the Copper Room, 202 C Street, San Diego, California 92101. All interested persons may attend the meeting. The meeting will be transcribed. A separate notice will be issued before the meeting, setting forth an agenda and identifying the panels of participants. Additional information may be obtained from the Office of External Affairs at (202) 208-0870. Information also may be obtained from the Commission's web page at www.ferc.fed.us.

Linwood A. Watson, Jr.,
Acting Secretary.

[FR Doc. 00-23199 Filed 9-7-00; 8:45 am]

BILLING CODE 6717-01-M